FEDERAL MARITIME COMMISSION

Sunshine Act Meeting

TIME AND DATE: January 15, 2020; 10:00 a.m.

PLACE: 800 N Capitol Street NW, First Floor Hearing Room, Washington, DC.

STATUS: Parts of this meeting will be open to the public and will be streamed live at https://bit.ly/2IZBIkY. The rest of the meeting will be closed to the public.

MATTERS TO BE CONSIDERED:

Open Session

1. Hearing Procedures Governing the Denial, Revocation, or Suspension of an OTI License

2. Regulatory Amendments Implementing the Frank LoBiondo Coast Guard Authorization Act of 2018

Closed Session

1. Staff Briefing on Economic Outlook and U.S. Liner Trade Developments

CONTACT PERSON FOR MORE INFORMATION: Rachel Dickon, Secretary, (202) 523-5725.

Rachel Dickon,
Secretary.

[FR Doc. 2020-00311 Filed 1-8-20; 4:15 pm]

BILLING CODE 6731-AA-P